DEPARTMENT OF LABOR

Employment and Training Administration

[SGA/DFA 04-103]

Solicitation for Grant Applications (SGA); Grants for Workforce Investment Boards; Correction

AGENCY: Employment and Training Administration (ETA), Labor.

ACTION: Notice; correction.

SUMMARY: The Employment and Training Administration published a document in the Federal Register of April 6, 2004, at 69 FR 18126, Doc. 04-7658 concerning the availability up to $5.5 million for grants to eligible Workforce Investment Boards (WIBs) that have demonstrated successfully the ability to form working partnerships with grassroots faith-based and community organizations (FBCOs). The document contained incorrect page limitation.

FOR FURTHER INFORMATION CONTACT: James W. Stockton, Grants Officer, Division of Federal Assistance, Fax (202) 693-2879.

Corrections

In the Federal Register of April 6, 2004, in FR Doc. 04-7658, on page 18128, in the first column, is corrected to read:

Submission of Applications: The Statement of Work must be limited to 10 pages.

Signed at Washington, DC, this 8th day of April, 2004.
James W. Stockton,
Grant Officer.

[FR Doc. 04-8322 Filed 4-12-04; 8:45 am]

BILLING CODE 4510-30-M